DEPARTMENT OF AGRICULTURE

Food and Nutrition Service

Agency Information Collection Activities: Proposed Collection; Comment Request—Food Stamp Program Identification Card Requirements

AGENCY: Food and Nutrition Service, USDA.

ACTION: Notice.

SUMMARY: In accordance with the Paperwork Reduction Act of 1995, this notice invites the general public and other public agencies to comment on proposed information collections. This notice announces the intent of the Food and Nutrition Service (FNS) to continue requiring State agencies to issue a Food Stamp Program (FSP) identification (ID) card to each certified household in the Food Stamp Program.

DATES: Written comments must be submitted on or before July 7, 2000, to be assured consideration.

ADDRESSES: Send comments to Barbara Hallman, Chief, State Administration Branch, Food and Nutrition Service, USDA, 3101 Park Center Drive, Alexandria, Virginia, 22302.

Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate, automated, electronic, mechanical, or other technological collection techniques or other forms of information technology.

All comments will be summarized and included in the request for Office of Management and Budget approval of the information collection. All comments will become a matter of public record.

FOR FURTHER INFORMATION CONTACT: Daniel Wilusz, (703) 305-2391.

SUPPLEMENTARY INFORMATION: Title: Food Stamp Program Identification Card Requirements.

OMB Number: 0584-0124.

Form Number: None.

Expiration Date: October 31, 2000.

Type of Request: Extension of a currently approved collection with a reduction in burden hours.

Abstract: FSP ID cards are used during recertification and for the issuance of benefits. Specifically, the ID cards will be used by:

• Issuance agents to identify households for monthly issuance;

• Retailers to identify household when benefits are used; and

• Households to provide as proof of eligibility and when being issued monthly allotments.

The issuance of FSP ID cards by State agencies is authorized by section 7 of the Food Stamp Act of 1977 (the Act) (7 U.S.C. 2016). Section 11 of the Act (7 U.S.C. 2020) further specifies that these are to be photographic (photo) ID cards in both large project areas and in those areas identified by the Department as needing photo ID cards to reduce the number of unauthorized issuances.

FSP regulations at 7 CFR 274. 10(a) require that State agencies issue a FSP ID card to each household certified to participate in the FSP. The household must present its ID card as proof of eligibility to receive and use benefits. In addition, 7 CFR 274.10(b) requires State agencies to issue photo ID cards in project areas or portions thereof with more than 100,000 participants, and in smaller areas that have been identified by the Department's Inspector General as needing photo IDs to decrease the number of unauthorized issuances. Project areas where all issuance of benefits are through either direct mail or an electronic benefit transfer system (EBT) are exempt from the photo ID requirement.

FSP regulations require that the photo ID card be a controlled document with a serial number protected by lamination. The fact that it is a controlled document with a serial number ensures integrity in the issuance of new cards. Because the issuance agent is required by 7 CFR 274.10(c)(2)(i) to annotate this serial number on the authorization or issuance document, the State agency can identify the household that received a particular issuance during the reconciliation process. In addition, the photograph is required because it clearly identifies the bearer of the card to the issuance agent or retailer. Lastly, the lamination of the photo ID makes it more difficult to forge or alter the card. The Department believes that all of these features are essential to ensure the integrity of the FSP ID process and the FSP in general.

Estimated Burden

We are reducing the estimated burden from 61,480 hours to 20,629 hours to reflect declining FSP participation as well as the growing number of States currently using EBT to issue benefits. Total issuance has decreased over 19 percent from fiscal year 1997 to fiscal year 1999. As a result, fewer ID cards (both regular and photo) need to be issued. In addition, the growth of EBT also lowers the burden by reducing the number of photo ID cards. Photo ID cards are not required in an EBT environment since there are no coupons for households to pick up from issuance agents. EBT has increased from 15 percent of total issuance in fiscal year 1996 to about 71 percent of total issuance in January 2000.

Affected Public: State and local government, and food stamp households.

Estimated Number of Respondents: 338,535.

Number of Responses per Respondent: 12.

Total Number of Annual Responses: 4,062,420.

Estimated Time per Response: 0.005 hours.

Estimated Total Annual Burden: 20,629 hours.

Dated: April 28, 2000.
Samuel Chambers, Jr.,
Administrator, Food and Nutrition Service.

[FR Doc. 00-11416 Filed 5-5-00; 8:45 am]

BILLING CODE 3410-30-U